DEPARTMENT OF TRANSPORTATION

Office of the Secretary

Notice of Weekly Receipts

Aviation Proceedings, Agreements filed during week ending August 31, 2001. The following Agreements were filed with the Department of Transportation under provisions of 49 U.S.C. Sections 412 and 414. Answers may be filed within 21 days after the filing of the applications.

Docket Number: OST-2001-10522.

Date Filed: August 28, 2001.

Parties: Members of the International Air Transport Association.

Subject: PTC COMP 0848 dated 28 August 2001, CTC COMP 0364 dated 28 August 2001, Resolutions 024f/033f—Local Currency, Fare/Rate Changes—Papua New Guinea, Intended effective date: 1 October 2001.

Docket Number: OST-2001-10541.

Date Filed: August 31, 2001.

Parties: Members of the International Air Transport Association.

Subject: PAC/Reso/413 dated 23 July 2001, Finally Adopted Resolutions r1-r34, MINUTES—PAC/Meet/171 dated 23 July 2001, Intended effective date: 1 January 2002.

Docket Number: OST-2001-10546.

Date Filed: August 31, 2001.

Parties: Members of the International Air Transport Association.

Subject: PTC23 ME-TC3 0127 dated 31 August 2001, Mail Vote 142—TC23/123 Africa-TC3, Special Passenger Amending Resolution from India r1-r7, Intended effective date: 14 September 2001.

Dorothy Y. Beard,
Federal Register Liaison.

[FR Doc. 01-23320 Filed 9-18-01; 8:45 am]

BILLING CODE 4910-62-P